DEPARTMENT OF THE INTERIOR

Bureau of Indian Affairs

Tribal Consultation on Draft Revisions to 25 CFR Parts 81 & 82

AGENCY: Bureau of Indian Affairs.

ACTION: Notice of tribal consultation meetings.

SUMMARY: Notice is hereby given that the Bureau of Indian Affairs (BIA) will conduct consultation meetings with Indian tribes reorganized under the Indian Reorganization Act (IRA) and the Oklahoma Indian Welfare Act, and other interested tribal leaders, to obtain oral and written comments concerning the potential revision of regulations at 25 CFR part 81, Tribal Reorganization under a Federal Statute, and 25 CFR part 82, Petitioning Procedures for Tribes Reorganized Under Federal Statute and Other Organized Tribes.

DATES: November 30—December 2, 2009, in Anchorage Alaska; January 12, 2010, in Brooks, California; January 14, 2010, in Pala, California; January 20, 2010, in Minneapolis, Minnesota; and January 26, 2010, in Oklahoma City, Oklahoma. See the SUPPLEMENTARY INFORMATION section of this notice for more details.

FOR FURTHER INFORMATION CONTACT: Elizabeth Colliflower, Tribal Relations Specialist, Division of Tribal Government Services, 1849 C Street, NW., Mail Stop 4513-MIB, Washington, DC; Telephone (202) 513-7641; Fax (202) 501-0679.

SUPPLEMENTARY INFORMATION:

I. Background

In 1992, the BIA drafted revisions to 25 CFR part 81 and 25 CFR part 82 and held four consultation sessions. The BIA received comments and recommendations that are now in the current draft version. The current draft version also:

• Incorporates the amendments made to section 16 of the IRA, 25 U.S.C. 476 (48 Stat. 984), as amended by the Act of November 1, 1988 (Pub. L. 100-581, 102 Stat. 2938), which established time frames within which the Secretary of the Interior must call and conduct Secretarial elections;

• Reflects the amendments made to section 17 of the IRA by the Act of May 24, 1990 (Pub. L. 101-301, 104 Stat. 207) under which additional tribes may petition for charter of incorporation and removes the requirement of a Secretarial election to ratify new charters;

• Reflects the addition of two new subsections to section 16 of the IRA by the Technical Corrections Act of 1994 (Pub. L. 103-363, 108 Stat. 707), which eliminates distinctions between Indians reorganized as historical tribes and those reorganized as communities of adult Indians;

• Includes language clarifying that an IRA tribe may amend its constitution to remove Secretarial approval of future amendments as indicated by the new subsection to Section 16 of the IRA with the enactment of the Native American Technical Corrections Act of 2004 (Pub. L. 106-179, 118 Stat. 453);

• Provides guidelines for the approval or disapproval of charters by the Secretary; and

• Corrects demonstrated weaknesses and clarifies confusing language in the existing regulations.

A consultation booklet containing the current draft version of the rule will be available for the meetings and will be distributed to federally recognized Indian tribes and BIA regional and agency offices.

II. Meeting Details

Tribal consultation meetings will be held at the following dates and locations:

Date | Location | Time
November 30-December 2, 2009 | Egan Convention Center, 555 West 5th Avenue, Anchorage, Alaska; Telephone: (907) 263-2800 | 9 a.m.-4:30 p.m. (Local Time).
January 12, 2010 | Rumsey Rancheria, Cache Creek Casino & Resort, 14455 Highway 16, Brooks, California; Telephone: (888) 772-2243 | 9 a.m.-4:30 p.m. (Local Time).
January 14, 2010 | Pala Casino Resort & Spa, 11154 Hwy 76, Pala, California 92059; Telephone: (877) 946-7252 | 9 a.m.-4:30 p.m. (Local Time).
January 20, 2010 | Ramada Mall of America, 2300 East American Boulevard, Bloomington, Minnesota 55425-1228; Telephone: (952) 854-3411 | 9 a.m.-4:30 p.m. (Local Time).
January 26, 2010 | Embassy Suites Hotel, 1815 S. Meridian, Oklahoma City, Oklahoma 73108; Telephone: (405) 683-6000 | 9 a.m.-4:30 p.m. (Local Time).

Dated: November 2, 2009.
Larry Echo Hawk,
Assistant Secretary—Indian Affairs.

[FR Doc. E9-27181 Filed 11-10-09; 8:45 am]

BILLING CODE 4310-WP-P